DEPARTMENT OF AGRICULTURE

Commodity Credit Corporation

Warehouse Rates for Peanuts Pledged as Collateral for a Marketing Assistance Loan

AGENCY: Commodity Credit Corporation, USDA.

ACTION: Notice.

SUMMARY: This notice advises warehouse operators operating under a Commodity Credit Corporation (CCC) Peanut Storage Agreement of the storage and handling rates applicable to the 2006 crop of peanuts.

EFFECTIVE DATE: August 11, 2006.

FOR FURTHER INFORMATION CONTACT: Any questions about this notice may be directed to Mark Overbo, Deputy Director, Warehouse and Inventory Division, Farm Service Agency, USDA, STOP 0553, 1400 Independence Avenue, SW., Washington, DC 20250-0553. Telephone: (202) 720-4647. E-mail: mark.overbo@wdc.usda.gov.

Persons with disabilities who require alternative means for communication (Braille, large print, audiotape, etc.) should contact the USDA Target Center at (202) 720-2600 (voice and TDD).

SUPPLEMENTARY INFORMATION: The marketing assistance loan program for peanuts was authorized by the Farm Security and Rural Investment Act of 2002 (7 U.S.C. 7901 et seq., May 13, 2002) (“2002 Act”). Section 1307(a)(6) of the 2002 Act (7 U.S.C. 7957(a)(6)) requires CCC to pay storage, handling, and other associated costs for the 2002 through 2006 crops of peanuts that are pledged as collateral for marketing assistance loans. Further, CCC regulations governing the marketing assistance loan program at 7 CFR 1421.103 provide that, “* * * approved warehouse storage shall consist of a public warehouse for which a CCC storage agreement for the commodity is in effect that is approved by CCC for price support purposes.” Thus, for a warehouse with an approved Peanut Storage Agreement (Form CCC-22), CCC will pay for receiving, storing, and other charges.

The Peanut Storage Agreement provides that the amounts payable by CCC will be at the rates stated in the Schedule of Rates (Form CCC-22-2) in effect when the services are performed, unless otherwise provided. In lieu of amending the Schedule of Rates CCC is issuing this notice to announce those rates that CCC will pay for storage, handling, and other associated costs for the 2006 crop of peanuts. Accordingly, the rates that CCC will pay for the 2006 crop of peanuts for those warehouses with an approved Peanut Storage Agreement are as follows:

A. Receiving.

CCC will pay $30.00 per ton receiving charges associated with warehouse-stored loans directly to the warehouse after the loan has been disbursed, plus the per ton initial grading and inspection fee as determined by the Federal State Inspection Service (FSIS).

B. Initial Grading and Inspection.

The per ton initial grading and inspection fees as determined by FSIS for the 2006 crop year are: $5.75 Alabama, $5.90 Florida, $5.20 Georgia, $7.00 Mississippi, $5.50 New Mexico, $6.75 North Carolina, $7.35 Oklahoma, $7.00 South Carolina, $5.00 Texas, and $7.95 Virginia. CCC will pay the warehouse the rate for the applicable State, based on the location of the buying point.

C. Storage.

Storage amounts may be earned at the rate of $.089 per ton per day, based on a monthly storage rate of $2.71 per ton. Accrued storage charges will be deducted from the CCC loan repayment amount. In the event peanuts are forfeited to CCC, storage charges will be paid by CCC through the loan maturity date for the quantity forfeited, from the later of the following: (1) The date the peanuts are received or deposited in the warehouse; (2) the date the storage charges start; (3) the day following the date through which storage charges have been paid; (4) the date all required marketing assistance loan documents are received in the county office. Subsequent payments for the storage of CCC-owned peanuts will be made based on the schedule as provided in the Peanut Storage Agreement.

D. Loadout.

The loadout rate of $8.00 per ton includes all items associated with loading out CCC-loan or CCC-owned peanuts, including weighing and placing peanuts aboard railcars or trucks. CCC will pay loadout charges only when this service is ordered by CCC.

E. Receiving Charges for CCC-Owned Peanuts.

CCC will pay $8.00 per ton receiving charges associated with the delivery of CCC-owned peanuts. Other charges, including but not limited to inspection charges, are included in the CCC-loan receiving charge previously paid according to paragraph A. of this notice.

Signed at Washington, DC, August 3, 2006.
Teresa C. Lasseter,
Executive Vice President, Commodity Credit Corporation.

[FR Doc. E6-13206 Filed 8-10-06; 8:45 am]

BILLING CODE 3410-05-P